DEPARTMENT OF ENERGY

Federal Energy Regulatory Commission

Combined Notice of Filings #1

Take notice that the Commission received the following electric corporate filings:

Docket Numbers: EC22-78-000.

Applicants: Digihost International Inc., Fortistar North Tonawanda LLC.

Description: Joint Application for Authorization Under Section 203 of the Federal Power Act of Fortistar North Tonawanda LLC, et al.

Filed Date: 6/21/22.

Accession Number: 20220621-5036.

Comment Date: 5 p.m. ET 7/12/22.

Take notice that the Commission received the following electric rate filings:

Docket Numbers: ER22-1418-000.

Applicants: Trailstone Renewables, LLC.

Description: Supplement to March 22, 2022 Trailstone Renewables, LLC tariff filing.

Filed Date: 6/14/22.

Accession Number: 20220614-5203.

Comment Date: 5 p.m. ET 6/24/22.

Docket Numbers: ER22-1495-001.

Applicants: El Paso Electric Company.

Description: Tariff Amendment: Service Agreement No. 367, EPE and Solar PV Development to be effective 5/29/2022.

Filed Date: 6/21/22.

Accession Number: 20220621-5177.

Comment Date: 5 p.m. ET 7/12/22.

Docket Numbers: ER22-1566-002.

Applicants: Guernsey Power Station LLC.

Description: Tariff Amendment: Response to Deficiency Notice to be effective 5/16/2022.

Filed Date: 6/21/22.

Accession Number: 20220621-5163.

Comment Date: 5 p.m. ET 7/12/22.

Docket Numbers: ER22-1690-000.

Applicants: Southwest Power Pool, Inc.

Description: Report Filing: 3931 Tyr Energy & Sunflower Meter Agent Agr Supplemental to be effective N/A.

Filed Date: 6/21/22.

Accession Number: 20220621-5109.

Comment Date: 5 p.m. ET 7/12/22.

Docket Numbers: ER22-1698-001.

Applicants: EDF Spring Field WPC, LLC.

Description: Tariff Amendment: Amendment to 1 to be effective 6/28/2022.

Filed Date: 6/21/22.

Accession Number: 20220621-5142.

Comment Date: 5 p.m. ET 7/12/22.

Docket Numbers: ER22-1883-001.

Applicants: Ledyard Windpower, LLC.

Description: Tariff Amendment: Amendment to MBR Application and Request for Shortened Notice Period to be effective 7/16/2022.

Filed Date: 6/21/22.

Accession Number: 20220621-5137.

Comment Date: 5 p.m. ET 7/12/22.

Docket Numbers: ER22-2140-001.

Applicants: Pacific Gas and Electric Company.

Description: Tariff Amendment: Errata to Termination of PG&E Llagas Energy Storage SGIA (SA 387) to be effective 6/30/2022.

Filed Date: 6/17/22.

Accession Number: 20220617-5160.

Comment Date: 5 p.m. ET 7/8/22.

Docket Numbers: ER22-2151-000.

Applicants: Power Authority of the State of New York, New York Independent System Operator, Inc.

Description: § 205(d) Rate Filing: Power Authority of the State of New York submits tariff filing per 35.13(a)(2)(iii): 205 Joint MTFIA among NYISO and NYPA for the CHPE Project SA No. 2710-CEII to be effective 6/3/2022.

Filed Date: 6/21/22.

Accession Number: 20220621-5000.

Comment Date: 5 p.m. ET 7/12/22.

Docket Numbers: ER22-2152-000.

Applicants: Consolidated Edison Company of New York, Inc.

Description: § 205(d) Rate Filing: Cost Sharing and Recovery Agreement of NYTO's to be effective 8/22/2022.

Filed Date: 6/21/22.

Accession Number: 20220621-5120.

Comment Date: 5 p.m. ET 7/12/22.

Docket Numbers: ER22-2153-000.

Applicants: Tri-State Generation and Transmission Association, Inc.

Description: § 205(d) Rate Filing: Amendment to Rate Schedule FERC No. 61 to be effective 8/22/2022.

Filed Date: 6/21/22.

Accession Number: 20220621-5130.

Comment Date: 5 p.m. ET 7/12/22.

Docket Numbers: ER22-2154-000.

Applicants: New York Independent System Operator, Inc., Central Hudson Gas & Electric Corporation, Consolidated Edison Company of New York, Inc., Orange and Rockland Utilities, Inc., Niagara Mohawk Power Corporation, New York State Electric & Gas Corporation, Rochester Gas and Electric Corporation, Long Island Lighting Company d/b/a LIPA.

Description: § 205(d) Rate Filing: New York Independent System Operator, Inc. submits tariff filing per 35.13(a)(2)(iii: NYTOs proposed tariff revisions for cost recovery/allocation related to CLCPA to be effective 8/22/2022.

Filed Date: 6/21/22.

Accession Number: 20220621-5146.

Comment Date: 5 p.m. ET 7/12/22.

Docket Numbers: ER22-2155-000.

Applicants: PJM Interconnection, L.L.C.

Description: § 205(d) Rate Filing: Original NSA, SA No. 6511; Queue No. AE2-297 to be effective 5/27/2022.

Filed Date: 6/21/22.

Accession Number: 20220621-5151.

Comment Date: 5 p.m. ET 7/12/22.

Docket Numbers: ER22-2156-000.

Applicants: Tri-State Generation and Transmission Association, Inc.

Description: § 205(d) Rate Filing: Initial Filing of Service Agreement FERC No. 906 to be effective 8/22/2022.

Filed Date: 6/21/22.

Accession Number: 20220621-5169.

Comment Date: 5 p.m. ET 7/12/22.

Docket Numbers: ER22-2157-000.

Applicants: Orange and Rockland Utilities, Inc.

Description: § 205(d) Rate Filing: O&R Concurrence CSRA 6-21-2022 to be effective 8/22/2022.

Filed Date: 6/21/22.

Accession Number: 20220621-5180.

Comment Date: 5 p.m. ET 7/12/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 21, 2022.
Debbie-Anne A. Reese,
Deputy Secretary.

[FR Doc. 2022-13645 Filed 6-24-22; 8:45 am]

BILLING CODE 6717-01-P